DEPARTMENT OF THE INTERIOR

Bureau of Indian Affairs

Indian Gaming

AGENCY: Bureau of Indian Affairs, Interior.

ACTION: Notice of amendment to Approved Tribal-State Compact.

SUMMARY: This notice publishes the Approval of the Tribal-State Compact for Class III Gaming between the Spokane Tribe and the State of Washington.

EFFECTIVE DATE: April 30, 2007.

FOR FURTHER INFORMATION CONTACT: George T. Skibine, Director, Office of Indian Gaming, Office of the Deputy Assistant Secretary—Policy and Economic Development, Washington, DC 20240, (202) 219-4066.

SUPPLEMENTARY INFORMATION: Pursuant to Section 11 of the Indian Gaming Regulatory Act of 1988 (IGRA), Public Law 100-497, 25 U.S.C. 2710, the Secretary of the Interior shall publish in the Federal Register notice of the approved Tribal-State compacts for the purpose of engaging in Class III gaming activities on Indian lands. This Compact effective today authorizes Class III gaming, sets limits for the size and scope of gaming for the Spokane Tribe and clarifies the state's regulatory role.

Dated: April 19, 2007.
Carl J. Artman,
Assistant Secretary—Indian Affairs.

[FR Doc. E7-8136 Filed 4-27-07; 8:45 am]

BILLING CODE 4310-4N-P